DEPARTMENT OF COMMERCE

Foreign-Trade Zones Board

[Order No. 1927]

Reorganization of Foreign-Trade Zone 182 (Expansion of Service Area) Under Alternative Site Framework; Fort Wayne, Indiana

Pursuant to its authority under the Foreign-Trade Zones Act of June 18, 1934, as amended (19 U.S.C. 81a-81u), the Foreign-Trade Zones Board (the Board) adopts the following Order:

WHEREAS, the Board adopted the alternative site framework (ASF) (15 CFR Sec. 400.2(c)) as an option for the establishment or reorganization of zones;

WHEREAS, the City of Fort Wayne, grantee of Foreign-Trade Zone 182, submitted an application to the Board (FTZ Docket B-71-2013, docketed 6-28-2013) for authority to expand the service area of the zone to include Blackford, Jay, LaGrange, Randolph and Steuben Counties, as described in the application, adjacent to the Fort Wayne Customs and Border Protection port of entry;

WHEREAS, notice inviting public comment was given in the Federal Register (78 FR 40426-40427, 7-5-2013) and the application has been processed pursuant to the FTZ Act and the Board's regulations; and,

WHEREAS, the Board adopts the findings and recommendations of the examiner's report, and finds that the requirements of the FTZ Act and the Board's regulations would be satisfied if approval is limited to Blackford, Jay, LaGrange and Steuben Counties;

NOW, THEREFORE, the Board hereby orders:

The application to reorganize FTZ 182 to expand the service area under the ASF is approved with regard to Blackford, Jay, LaGrange and Steuben Counties, subject to the FTZ Act and the Board's regulations, including Section 400.13, and to the Board's standard 2,000-acre activation limit for the zone.

Signed at Washington, DC, this 2nd day of January 2014.
Christian Marsh,
Acting Assistant Secretary of Commerce for Enforcement and Compliance, Alternate Chairman, Foreign-Trade Zones Board.

[FR Doc. 2014-00531 Filed 1-13-14; 8:45 am]

BILLING CODE 3510-DS-P